DEPARTMENT OF COMMERCE

National Oceanic and Atmospheric Administration

RIN 0648-XA081

Endangered and Threatened Species; Take of Anadromous Fish

AGENCY: National Marine Fisheries Service (NMFS), National Oceanic and Atmospheric Administration (NOAA), Commerce.

ACTION: Receipt of applications for scientific research permits; request for comments.

SUMMARY: Notice is hereby given that NMFS has received applications for scientific research from Thomas R. Payne and Associates (TRPA) in Arcata, CA (15542), the Glenn-Colusa Irrigation District (GCID) in Willows, CA (15573), the University of California at Davis (UC-Davis) in Davis, CA (15926), and Natural Resource Scientists, Incorporated (NRSI) in Red Bluff, CA (16083). These permits would affect the Federally endangered Sacramento River winter-run Chinook salmon and the threatened Central Valley spring-run Chinook salmon Evolutionarily Significant Units (ESUs), the Federally threatened Central Valley steelhead Distinct Population Segment (DPS), and the Federally threatened southern DPS of North American green sturgeon (southern DPS green sturgeon). This document serves to notify the public of the availability of the permit applications for review and comment.

DATES: Written comments on the permit applications must be received no later than 5 p.m. Pacific Standard Time on January 14, 2011.

ADDRESSES: Comments submitted by e-mail must be sent to the following address; FRNpermitsSAC@noaa.gov. The applications and related documents are available for review by appointment, for permits: Protected Resources Division, NMFS, 650 Capitol Mall, Suite 5-100, Sacramento, CA 95814 (ph: 916-930-3606, fax: 916-930-3629).

FOR FURTHER INFORMATION CONTACT: Shirley Witalis at phone number 916-930-3606 or e-mail: Shirley.Witalis@noaa.gov.

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to Federally-listed endangered Sacramento River winter-run Chinook salmon (Oncorhynchus tshawytscha) ESU, threatened Central Valley spring-run Chinook salmon (O. tshawytscha) ESU, threatened Central Valley steelhead (O. mykiss) DPS, and threatened southern DPS of North American green sturgeon (Acipenser medirostris).

Applications Received

TRPA requests a 10-year permit (15542) for take of juvenile and adult Central Valley steelhead while conducting fish monitoring surveys in lower Putah Creek, a tributary in the Sacramento River basin, California. The surveys are conducted under the auspices of the Lower Putah Creek Coordinating Committee (LPCCC) to monitor the annual fluctuations in the abundance, distribution, condition, and health of fishes in lower Putah Creek, and determine if flow management actions by the LPCCC are attaining desired goals. TRPA anticipates an annual non-lethal take of 200 juvenile (with an estimated total of 2 percent non-intentional mortality) and 2 adult steelhead. TRPA proposes to capture fish by boat electrofisher and dipnet; sample fish for species identification, tags, marks and finclips, lengths and weights; and release fish back into Putah Creek.

GCID requests a 5-year permit (15573) for monitoring activities associated with juvenile Sacramento River winter-run and Central Valley spring-run Chinook salmon, and Central Valley steelhead emigration on the Sacramento River at the GCID fish screen bypass channel (river mile 206). Rotary screw-trap (RST) operations have been on-going at the GCID fish screen by the State of California from 1991 through 2009. GCID proposes continuous monitoring operations by RST, and the capture, identification and enumeration of fish to species. A subsample of 30 captured salmon will be anesthetized, measured, revived and released downstream from the trapping location. GCID anticipates an annual non-lethal take of up to 4,000 natural and 500 hatchery juvenile winter-run Chinook salmon (with an estimated 1 percent non-intentional mortality), 1,000 natural and 500 hatchery juvenile spring-run Chinook salmon (with an estimated 1 percent non-intentional mortality), 500 natural and 500 hatchery juvenile steelhead (with an estimated 1 percent non-intentional mortality), and 50 natural juvenile southern DPS green sturgeon (including an estimated .02 percent non-intentional mortality).

The University of California at Davis (UCD) requests a five-year permit (15926) for the possession and genotyping (single nucleotide polymorphism (SNP) analyses) of Sacramento River winter-run and Central Valley spring-run Chinook salmon and Central Valley steelhead tissues currently maintained in the California Department of Fish and Game Salmonid Tissue Archive and those to be collected in future non-lethal agency and research trapping activities. UCD anticipates possession of natural and hatchery-origin fish tissues representative of salmonid populations throughout the Central Valley, California. The results of this study will contribute to the genetic management and hatchery operations regarding Chinook salmon and steelhead reintroductions to the upper San Joaquin River system, with a focus on potential natural recolonization and effective population size of spring-run populations and a broad genetic diversity assessment.

The Natural Resource Scientists, Incorporated (NRSI) requests a 2-year permit (16083) for take of juvenile Sacramento River winter-run Chinook salmon, Central Valley spring-run Chinook salmon, Central Valley steelhead, and southern DPS of green sturgeon while conducting site-specific research at five irrigation diversion outfall sites within the Sacramento River and Delta system, California. Entrained fish will be collected via fyke net, and sampled from March through January of each year to encompass the primary irrigation season. The research is part of an on-going investigation into developing criteria for prioritizing fish screening projects, and will correlate fish entrainment with the physical, hydraulic, and habitat variables at each diversion site. All fish will be identified as to species, enumerated, measured for length, and placed back into the canals; all entrained fish captured live will be returned to the river. Sampling at each diversion site will be performed continuously from March 1 through January 31 during the study period. NRSI requests authorization for an estimated annual non-lethal take of 1,227 juvenile winter-run Chinook salmon,1,341 juvenile spring-run Chinook salmon, 150 juvenile steelhead, and 145 juvenile green sturgeon. No indirect mortality is anticipated during fish capture and sampling activities carried out for the study.

Dated: December 9, 2010.
Therese Conant,
Acting Chief, Endangered Species Division, Office of Protected Resources, National Marine Fisheries Service.

[FR Doc. 2010-31519 Filed 12-14-10; 8:45 am]

BILLING CODE 3510-22-P